DEPARTMENT OF HOUSING AND URBAN DEVELOPMENT

[Docket No. FR-5997-N-09]

30-Day Notice of Proposed Information Collection: Implementation Phase Review of the Lesbian, Gay, Bisexual, Transgender and Queer (LGBTQ) Youth Homelessness Prevention Initiative

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: March 27, 2017.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov

FOR FURTHER INFORMATION CONTACT: Anna P. Guido, Reports Management Officer, QMAC, Department of Housing and Urban Development, 451 7th Street SW., Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on September 20, 2016 at 81 FR 64497.

A. Overview of Information Collection

Title of Information Collection: Implementation Phase Review of the LGBTQ Youth Homelessness Prevention Initiative.

OMB Approval Number: 2506-New.

Type of Request: New collection.

Form Number: None.

Description of the need for the information and proposed use: The LGBTQ Youth Homelessness Prevention Initiative began in the summer of 2013 as part of a federal interagency initiative. The initiative's goal is to prevent homelessness among lesbian, gay, bisexual, transgender, and questioning (LGBTQ) youth, and to intervene early when homelessness occurs for these youth. Federal partners from the U.S. Departments of Education, Health, and Juvenile Justice, as well as the U.S. Interagency Council on Homelessness, support this HUD initiative. The initiative supports the federal goal to end youth homelessness by 2020 and contributes to the development of a model for preventing LGBT youth homelessness that other communities can replicate. There are two communities participating in this initiative and both receive technical assistance (TA) to support their initiative planning (and later in the process, their initiative implementation).

This request for OMB clearance covers the implementation phase which will document the approach and experiences of both communities as they have implemented their local plans. Furthermore, this review will examine the resources required to carry out implementation, what worked well, what challenges emerged and how they were addressed, lessons learned, and recommendations both sites offer for potential replication. To produce this information, HUD will collect quantitative and qualitative data from primary sources using four methods: interviews, surveys, focus groups, and document review. Participants will consist of the local initiative leads as well as individuals involved in local initiative steering committees and subcommittees and community members associated with the initiative.

Respondents (i.e. affected public): Organizations participating in the two local initiatives, including local lead organization, and participants on the local steering committees and subcommittees, and community members.

Exhibit A-1—Estimated Annual Burden Hours and Annual Cost for LGBTQ Implementation Phase Documentation Review
Information collection | Number of respondents | Frequency of response | Responses per annum | Burden hour per response | Annual burden hours | Hourly cost per response | Annual cost
Interviews | 13 | 1 | 13 | 1.00 | 13.00 | $30.54 | $397.02
Focus Group | 24 | 1 | 24 | 1.00 | 24.00 | 30.54 | 732.96
Survey | 110 | 1 | 110 | 0.25 | 27.50 | 30.54 | 839.85
Total | 147 |  |  | 2.25 | 64.50 | 30.54 | 1,969.83
* Hourly wage rates are based on the 2015 National Industry-Specific Occupational Employment and Wage Estimates by the Department of Labor (http://www.bls.gov/oes/current/oes_nat.htm). The hourly wage rate in Exhibit A-2 represents the mean hourly wage of “Social and Community Managers.”

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority: Section 3507 of the Paperwork Reduction Act of 1995, 44 U.S.C. Chapter 35.

Dated: February 15, 2017.
Anna P. Guido,
Department Reports Management Officer, Office of the Chief Information Officer.

[FR Doc. 2017-03523 Filed 2-22-17; 8:45 am]

BILLING CODE 4210-67-P